DEPARTMENT OF THE INTERIOR

Bureau of Indian Affairs

[190A2100DD/AAKC001030/A0A501010.999900253G]

Indian Gaming; Approval of Tribal-State Class III Gaming Compact Amendment in the State of Oregon

AGENCY: Bureau of Indian Affairs, Interior.

ACTION: Notice.

SUMMARY: This notice publishes the approval of the Amendment to the Amended and Restated (Highway 26) Tribal-State Compact for Regulation of Class III Gaming between the Confederated Tribes of the Warm Springs Reservation of Oregon (Tribe) and the State of Oregon (State), Amendment I (Amendment).

DATES: This compact amendment takes effect on April 16, 2019.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA) Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Amendment modifies the definition of Video Lottery Terminal (VLT) and requires the Tribal Gaming Commission to develop and submit internal controls for the State's approval prior to offering a new VLT for play. The Amendment is approved.

Dated: March 13, 2019.
John Tahsuda,
Principal Deputy Assistant Secretary—Indian Affairs.

[FR Doc. 2019-07488 Filed 4-15-19; 8:45 am]

BILLING CODE 4337-15-P